DEPARTMENT OF THE INTERIOR

Bureau of Land Management

[LLID9570000.LL14200000.BJ0000]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat representing the dependent resurvey of portions of the north and east boundaries and the subdivisional lines, and the subdivision of sections 1 and 12, T. 11 S., R. 37 E., of the Boise Meridian, Idaho, Group Number 1363, was accepted July 9, 2013.

The plat representing the dependent resurvey of portions of the north boundary and subdivisional lines, and the subdivision of sections 6, 7, 8, and 9, T. 11 S., R. 38 E., of the Boise Meridian, Idaho, Group Number 1361, was accepted July 9, 2013.

The plat representing the dependent resurvey of portions of the east boundary and subdivisional lines, and the subdivision of sections 13, 17, 20, 21, 24, 27, 28, and 29, T. 8 N., R. 39 E., of the Boise Meridian, Idaho, Group Number 1351, was accepted July 9, 2013.

The plat representing the dependent resurvey of portions of the north boundary and subdivisional lines, and the subdivision of section 5, and a metes-and-bounds survey in section 5, T. 7 N., R. 23 E., of the Boise Meridian, Idaho, Group Number 1381, was accepted August 26, 2013.

The plat representing the dependent resurvey of portions of the Boise Base Line (south boundary), west boundary, and subdivisional lines, and the subdivision of section 31, T. 1 N., R. 12 E., of the Boise Meridian, Idaho, Group Number 1360, was accepted August 30, 2013.

The plat representing the dependent resurvey of portions of the west boundary, subdivisional lines, and the original 1911 meanders of the Salmon River in section 7, and the subdivision of section 7, the survey of the 2012 meanders of the Salmon River in section 7, and the survey of certain 2012 partition lines in section 7, T. 12 N., R. 19 E., Boise Meridian, Idaho, Group Number 1382, was accepted September 4, 2013.

The plat representing the dependent resurvey of portions of the south boundary and subdivisional lines, and the subdivision of sections 27, 29, and 32, T. 15 N., R. 27 E., Boise Meridian, Idaho, Group Number 1391, was accepted September 5, 2013.

This survey was executed at the request of the Bureau of Indian Affairs to meet their administrative needs. The lands surveyed are:

The plat representing the dependent resurvey of portions of the Boise Meridian (east boundary), south boundary, subdivisional lines, and subdivision of sections 15, 30, and 31, and the further subdivision of sections 15, 30, and 31, T. 35 N., R. 1 W., Boise Meridian, Idaho, Group Number 1352, was accepted September 30, 2013.

This survey was executed at the request of the U.S.D.A. Forest Service to meet their administrative needs. The lands surveyed are:

The supplemental plat was prepared to show amended lottings in sections 2, 3, 10, and 11, T. 28 N., R. 3 E., Boise Meridian, Idaho, Group Number 1402, was accepted August 27, 2013.

Dated: October 18, 2013.
Stanley G. French,
Chief Cadastral Surveyor for Idaho.

[FR Doc. 2013-25523 Filed 10-28-13; 8:45 am]

BILLING CODE 4310-GG-P